FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Consumer Complaint Form (FR 1379c), and Interagency Appraisal Complaint Form (FR 1379d) (collectively FR 1379; OMB No. 7100-0135).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 1379.

Final Approval Under OMB Delegated Authority of the Extension for Three Years, Without Revision, of the Following Information Collection

Collection title: Consumer Complaint Form (FR 1379c) and Interagency Appraisal Complaint Form (FR 1379d).

Collection identifiers: FR 1379c and FR 1379d.

OMB control number: 7100-0135.

General description of collection: The FR 1379c form is for consumers to submit a complaint against a financial institution. The FR 1379d form collects information about complaints regarding a regulated institution's non-compliance with the appraisal independence standards and the Uniform Standards of Professional Appraisal Practice, including complaints from appraisers, individuals, and other entities. The information is used to respond to consumer complaints and inquiries regarding practices by banks and other financial institutions supervised by the Board.

Frequency: Event-generated.

Respondents: Appraisers, individuals, financial institutions, and other entities.

Total estimated number of respondents: FR 1379c, 7,005; FR 1379d, 4.

Estimated average hours per response: FR 1379c, 0.17; FR 1379d, 0.33.

Total estimated annual burden hours: FR 1379c, 1,191; FR 1379d, 1.

Current actions: On May 29, 2025, the Board published a notice in the Federal Register (90 FR 22724) requesting public comment for 60 days on the extension, without revision, of the FR 1379. The comment period for this notice expired on July 28, 2025. The Board did not receive any comments.

Board of Governors of the Federal Reserve System, October 9, 2025.
Erin M. Cayce,
Assistant Secretary of the Board.

[FR Doc. 2025-19936 Filed 11-14-25; 8:45 am]

BILLING CODE 6210-01-P